MORRIS K. UDALL AND STEWART L. UDALL FOUNDATION

Sunshine Act Meetings

TIME AND DATE: 10:00 a.m. to 11:30 a.m. (MST-AZ), Wednesday, April 3, 2024.

PLACE: Virtual Board of Trustees Meeting via Microsoft Teams.

STATUS: This virtual meeting of the Board of Trustees will be open to the public. Members of the public who would like to attend this meeting may request remote access by contacting Sara Moeller at moeller@udall.gov prior to April 3, 2024, to obtain the teleconference connection information.

MATTERS TO BE CONSIDERED: (1) Call to Order and Acting Chair's Remarks; (2) Executive Director's Remarks; (3) Consent Agenda Approval (Minutes of the November 7-8, 2023, Board of Trustees Meeting; Board Reports submitted for Data and Information Technology, Education Programs, Finance and Internal Controls, John S. McCain III National Center for Environmental Conflict Resolution, and Udall Center for Studies in Public Policy, including the Native Nations Institute for Leadership, Management, and Policy and The University of Arizona Libraries, Special Collections; and Board takes notice of any new and updated personnel policies and internal control methodologies); (4) Disband Ad Hoc Committee on Grants, Gifts, and Donations; (5) U.S. Indigenous Data Sovereignty and Governance Summit; (6) July 2024 Board of Trustees Meeting Updates; (7) Board Officer and Executive Committee Elections; and (8) Hatch Act Training.

CONTACT PERSON FOR MORE INFORMATION: Sara Moeller, Administrative Officer, 434 E University Blvd., Suite 300, Tucson, AZ 85705, (520) 901-8568.

Dated: March 18, 2024.
David P. Brown,
Executive Director, Morris K. Udall and Stewart L. Udall Foundation.

[FR Doc. 2024-06042 Filed 3-18-24; 4:15 pm]

BILLING CODE 6820-FN-P